DEPARTMENT OF DEFENSE

Office of the Secretary

[Docket ID: DoD-2023-OS-0036]

Proposed Collection; Comment Request

AGENCY: Office of the Under Secretary of Defense for Acquisition and Sustainment, Department of Defense (DoD).

ACTION: 60-Day information collection notice.

SUMMARY: In compliance with the Paperwork Reduction Act of 1995, the Defense Logistics Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 5, 2023.

ADDRESSES: You may submit comments, identified by docket number and title, by any of the following methods:

Federal Rulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Logistics Agency (J62C), John J. Kingman Road, Ft. Belvoir, VA 22060-6221, ATTN: Ms. Patricia Pearce, or call (804) 279-2884.

SUPPLEMENTARY INFORMATION:

Title; Associated Form; and OMB Number: DoD DLA Desktop Browse Survey; OMB Control Number 0704-DDBS.

Needs and Uses: The Defense Logistics Agency is an organization with a public-facing website used to inform and work with its customers in the military services; Federal, State, and local governments; industry and small business; and the general public. Measurement and feedback through surveying is needed to better meet the needs of the agency's audiences and provide both overall goals for improvement and to address specific issues presented by website visitors. DLA Public Affairs uses the feedback to address immediate concerns and set both short and long-term goals for improving the agency's website. Actionable survey comments are addressed with DLA offices who manage the corresponding website content for quick, specific, and direct content improvements. Short-term actions include fixing broken links, adding or updating page content, restructuring, or altering page layouts to make content easier to browse, and creating new resources to meet previously unknown customer needs. Combined data and trends inform DLA Public Affairs strategy for larger-scale website improvement projects and are summarized for DLA senior leader awareness and long-term planning. Larger efforts include changes to sitewide navigation, homepage redesigns, and aggregating previously dispersed similar sitewide resources to central, prominent places.

Affected Public: Individuals or households.

Annual Burden Hours: 93.3.

Number of Respondents: 1,600.

Responses per Respondent: 1.

Annual Responses: 1,600.

Average Burden per Response: 3.5 minutes.

Frequency: On occasion.

Dated: April 27, 2023.
Aaron T. Siegel,
Alternate OSD Federal Register Liaison Officer, Department of Defense.

[FR Doc. 2023-09628 Filed 5-4-23; 8:45 am]

BILLING CODE 5001-06-P